DEPARTMENT OF EDUCATION

[CFDA No. 84.170A]

Office of Postsecondary Education; Notice Extending Application Transmittal Deadline Date for Jacob K. Javits Fellowship Program

SUMMARY: On August 1, 2003, a notice was published in the Federal Register (68 FR 45229) inviting applications for new awards for fiscal year (FY) 2004 for the Jacob K. Javits Fellowship Program. The notice listed a deadline date of October 3, 2003, for the transmittal of applications.

The Secretary extends the deadline date for the transmittal of applications for this competition from applicants in certain nationally declared disaster areas. The Secretary takes this action to allow more time for the preparation and submission of applications by potential applicants in certain States that have been affected by Hurricane Isabel. The extension of this deadline date is intended to help the potential applicants compete fairly with other applicants under this competition.

Eligibility: The extended deadline date in this notice applies to you if you are a potential applicant from an area on the following chart. The President has declared each of these locations a disaster area as a result of recent severe weather conditions. These areas are as follows:

State: Delaware, District of Columbia, Maryland, North Carolina, Virginia, West Virginia.

DATES: The new deadline date for the transmittal of applications is October 14, 2003.

ADDRESSES: The address and telephone number for obtaining applications for, or information about this program are in the application notice for the program.

If you use a telecommunications device for the deaf (TDD), you may call the Federal Information Relay Service (FIRS) at 1-800-877-8339.

Individuals with disabilities may obtain a copy of this notice in an alternative format (e.g., Braille, large print, audiotape, or computer diskette) on request to the contact person listed in the application notice.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1134-1134d.

Dated: October 1, 2003.
Wilbert Bryant,
Acting Assistant Secretary, Office of Postsecondary Education.

[FR Doc. 03-25303 Filed 10-1-03; 3:55 pm]

BILLING CODE 4000-01-P